DEPARTMENT OF VETERANS AFFAIRS

Privacy Act of 1974; System of Records

AGENCY: Department of Veterans Affairs (VA).

ACTION: Deletion of system of records.

SUMMARY: Notice is hereby given that the Department of Veterans Affairs (VA) is deleting a system of records entitled, “Physician, Dentist and Supervisory Nurse Professional Standards Board Action File-VA” (29VA11), which is set forth in the Federal Register publication, “Privacy Act Issuances, 1999 Compilation”. The records included a collection of personnel forms and correspondence pertaining to promotions, reassignments, transfers, proficiency ratings, physical examinations, etc., all of which are duplicated in the Professional Standards Board and Proficiency Rating Folder (101VA05). This system also contained board action folders for former employees who cannot be re-employed without approval of the Under Secretary for Health. As a result of a review of related systems of records maintained by the agency, it was determined there was no longer a need to maintain the records in 29VA11, since the records are maintained elsewhere.

DATES: Comments on the deletion of the system of records must be received no later than April 15, 2009. If no public comment is received during the period allowed for comment or unless otherwise published in the Federal Register by the VA, the system will be deleted effective April 15, 2009, or 40 days after the notice was approved, whichever is latest. The “Report of Intention to Publish a Deletion of a System of Records “ and advance copy of the notice has been been sent to the appropriate Congressional committees and to the Director of the Office of Management and Budget (OMB) as required by 5 U.S.C. 552a(r) (Privacy Act) and guidelines issued by OMB (61 FR 6428), February 20, 1996.

ADDRESSES: Written comments may be submitted through www.Regulations.gov; by mail or hand-delivery to Director, Regulations Management (02Reg), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at www.Regulations.gov.

FOR FURTHER INFORMATION CONTACT: Veterans Health Administration Privacy Act Officer (193B3) , Department of Veterans Affairs, 810 Vermont Avenue, NW., Washington, DC 20420; telephone (704) 245-2492.

Approved: February 23, 2009.
John R. Gingrich,
Chief of Staff, Department of Veterans Affairs.

[FR Doc. E9-5597 Filed 3-13-09; 8:45 am]

BILLING CODE 8320-01-P